DEPARTMENT OF COMMERCE

Submission for OMB Review; Comment Request

The Department of Commerce (DoC) has submitted to the Office of Management and Budget (OMB) for clearance the following proposal for collection of information under the provisions of the Paperwork Reduction Act (44 U.S.C. Chapter 35).

Agency: Patent and Trademark Office (PTO).

Title: Invention Promoters/Promotion Firms Complaints.

Agency Form Number: PTO/SB/XX.

OMB Approval Number: 0651-XXXX.

Type of Request: New collection.

Burden Hours: 50 hours per year.

Number of Respondents: 200 responses per year. The PTO expects to receive 100 complaints concerning invention promoters/promotion firms and 100 responses to such complaints.

Average Hours Per Response: The PTO estimates that it takes an average of 15 minutes (.25 hours) to gather the information, complete the complaint, and submit it to the PTO. The PTO estimates that it will take an invention promoter an average of 15 minutes (.25 hours) to gather the information, complete the response, and submit it to the PTO.

Needs and Uses: The Inventors' Rights Act of 1999 requires the PTO to publish complaints filed by independent inventors against invention promoters/promotion firms and publish any replies to such complaints. The Inventors' Rights Act requires the PTO to publish these complaints and replies, but it does not require the PTO to enforce the Act, to investigate the complaints, or to participate in any legal proceedings against the invention promoters/promotion firms. The PTO has developed a form that complainants may choose to use to submit their complaints. Use of this form, PTO/SB/XX Complaint Regarding Invention Promoter, is not mandatory; however, its use will ensure that all of the necessary information is provided, which in turn enables the PTO to make the complaint publicly available. At this time, there is no associated form for responses to the complaints. The public uses the complaint form to submit a complaint against an invention promoter/promotion firm to the PTO. In addition, this information collection enables the invention promoters/promotion firms to respond to such complaints. The PTO uses the complaint form to ensure that all of the necessary information is provided so that the complaints can be made publicly available. In addition, the PTO forwards the complaints to the invention promoter/promotion firm and makes sure that any responses to these complaints are also made publicly available.

Affected Public: Individuals or households, businesses or other for-profit, not-for-profit institutions, and farms.

Frequency: On occasion.

Respondent's Obligation: Voluntary.

OMB Desk Officer: Peter Weiss, (202) 395-3630.

Copies of the above information collection proposal can be obtained by calling or writing Linda Engelmeier, Departmental Forms Clearance Officer, (202) 482-3272, Office of the Chief Information Officer, Department of Commerce, Room 5027, 14th and Constitution Avenue, NW, Washington, DC 20230 (or via the Internet at LEngelme@doc.gov).

Written comments and recommendations for the proposed information collection should be sent within 30 days of publication to Peter Weiss, OMB Desk Officer, Room 10236, New Executive Office Building, 725 17th Street, N.W., Washington, D.C. 20503.

Dated: January 12, 2000.
Madeleine Clayton,
Management Analyst, Office of the Chief Information Officer.

[FR Doc. 00-1163 Filed 1-18-00; 8:45 am]

BILLING CODE: 3510-16-P